DEPARTMENT OF THE INTERIOR

National Park Service

[NPS-WASO-NAGPRA-NPS0036471; PPWOCRADN0-PCU00RP14.R50000]

Notice of Inventory Completion: California State University, Los Angeles, Los Angeles, CA

AGENCY: National Park Service, Interior.

ACTION: Notice.

SUMMARY: In accordance with the Native American Graves Protection and Repatriation Act (NAGPRA), California State University, Los Angeles has completed an inventory of human remains (hereafter referred to as “ancestors”) in consultation with the appropriate Indian Tribes or Native Hawaiian organizations and has determined that there is a cultural affiliation between the ancestors and Indian Tribes or Native Hawaiian organizations in this notice. The ancestors were removed from Clark County, NV.

DATES: Repatriation of the ancestors in this notice will occur on or after September 27, 2023.

ADDRESSES: Michele Bleuze, California State University, 5151 State University Drive, Los Angeles, CA 90032, telephone (323) 343-2440, email mbleuze@calstatela.edu; Amira Ainis, California State University, 5151 State University Drive, Los Angeles, CA 90032, telephone (323) 343-2449, email aainis2@calstatela.edu.

SUPPLEMENTARY INFORMATION: This notice is published as part of the National Park Service's administrative responsibilities under NAGPRA. The determinations in this notice are the sole responsibility of California State University, Los Angeles. The National Park Service is not responsible for the determinations in this notice. Additional information on the determinations in this notice, including the results of consultation, can be found in the inventory or related records held by California State University, Los Angeles.

Description

A minimum of two ancestors were removed from Clark County, NV. Sometime in the mid-1970s (the exact date is unclear), California State University, Los Angeles conducted excavations at the CK2003 Mill Point #1 site, also referred to as the Fremont Point site. The descriptions of the two burials are based on a 1994 osteological report from Judy M. Suchey of the Department of Anthropology at California State University, Fullerton and a 2005 NAGPRA inventory, likely completed by Patricia Martz of the Department of Anthropology at California State University, Los Angeles. Burial 1 is a nearly complete burial of an estimated female over 30 years of age who was between 4′ 11″ and 5′ 2″ in stature. Marked vertebral lipping and heavy dental attrition and alveolar resorption were noted. Burial 2 is a nearly complete burial of an estimated female over 30 years of age who was between 5′ 4″ and 5′ 7″ in stature. Heavy vertebral lipping on the lower thoracic and lumbar vertebrae and minimal dental attrition on the maxillary teeth were noted. None of the current faculty at California State University, Los Angeles has conducted any analyses on these ancestors. No associated funerary objects are present.

Based on documentation in the Department of Anthropology, California State University, Los Angeles, officials at California State University, Fullerton determined that the CK2003 Mill Point #1 site dates to A.D. 530-1070. A site report from 1979 by R.F. Perkins indicates a radiocarbon-14 date of A.D. 680.

Cultural Affiliation

The ancestors in this notice are connected to one or more identifiable earlier groups, tribes, peoples, or cultures. There is a relationship of shared group identity between the identifiable earlier groups, tribes, peoples, or cultures and one or more Indian Tribes or Native Hawaiian organizations. The following types of information were used to reasonably trace the relationship: geographical, archeological, expert opinion, and other information.

Determinations

Pursuant to NAGPRA and its implementing regulations, and after consultation with the appropriate Indian Tribes and Native Hawaiian organizations, California State University, Los Angeles has determined that:

• Pursuant to 25 U.S.C. 3001(9), the ancestors described in this notice represent the physical remains of two individuals of Native American ancestry.

• Pursuant to 25 U.S.C. 3001(2), there is a relationship of shared group identity that can be reasonably traced between the Native American ancestors described in this notice and the Colorado River Indian Tribes of the Colorado River Indian Reservation, Arizona and California; Confederated Tribes of the Warm Springs Reservation of Oregon; Fort Independence Indian Community of Paiute Indians of the Fort Independence Reservation, California; Fort Mojave Indian Tribe of Arizona, California & Nevada; Hualapai Indian Tribe of the Hualapai Indian Reservation, Arizona; Kaibab Band of Paiute Indians of the Kaibab Indian Reservation, Arizona; Las Vegas Tribe of Paiute Indians of the Las Vegas Indian Colony, Nevada; Moapa Band of Paiute Indians of the Moapa River Indian Reservation, Nevada; and the Paiute Indian Tribe of Utah (Cedar Band of Paiutes, Kanosh Band of Paiutes, Koosharem Band of Paiutes, Indian Peaks Band of Paiutes, and Shivwits Band of Paiutes).

Requests for Repatriation

Written requests for repatriation of the ancestors in this notice must be sent to the Responsible Officials identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the ancestors in this notice to a requestor will occur on or after September 27, 2023. If competing requests for repatriation are received, California State University, Los Angeles must determine the most appropriate requestor prior to repatriation. Requests for joint repatriation of the ancestors are considered a single request and not competing requests. California State University, Los Angeles is responsible for sending a copy of this notice to the Indian Tribes identified in this notice.

Authority: Native American Graves Protection and Repatriation Act, 25 U.S.C. 3003, and the implementing regulations, 43 CFR 10.9, 10.10, and 10.14.

Dated: August 18, 2023.
Melanie O'Brien,
Manager, National NAGPRA Program.

[FR Doc. 2023-18508 Filed 8-25-23; 8:45 am]

BILLING CODE P